DEPARTMENT OF COMMERCE

International Trade Administration

[A-201-837]

Certain Magnesia Carbon Bricks From Mexico: Rescission of Antidumping Duty Administrative Review; 2014-2015

AGENCY: Enforcement and Compliance, International Trade Administration, Department of Commerce.

SUMMARY: The Department of Commerce (the Department) is rescinding its administrative review of the antidumping duty order on certain magnesia carbon bricks from Mexico for the period of review September 1, 2014, through August 31, 2015 (POR).

DATES: Effective Date: February 9, 2016.

FOR FURTHER INFORMATION CONTACT: Terre Keaton Stefanova, AD/CVD Operations, Office II, Enforcement and Compliance, International Trade Administration, U.S. Department of Commerce, 14th Street and Constitution Avenue NW., Washington, DC 20230; telephone: (202) 482-1280.

SUPPLEMENTARY INFORMATION:

Background

On September 1, 2015, the Department published in the Federal Register a notice of opportunity to request administrative review of the antidumping duty order on certain magnesia carbon bricks from Mexico for the POR.¹

¹ See Antidumping or Countervailing Duty Order, Finding, or Suspended Investigation; Opportunity To Request Administrative Review, 80 FR 52741 (September 1, 2015).

On September 30, 2015, in accordance with section 751(a) of the Tariff Act of 1930, as amended (the Act), and 19 CFR 351.213(b), the Department received a timely request from the Magnesia Carbon Bricks Fair Trade Committee (the Committee) ² to conduct an administrative review of the POR sales of RHI-Refmex S.A. de C.V., Trafinsa S.A. de C.V., Vesuvius Mexico S.A. de C.V., and Ferro Alliages & Mineraux Inc. On November 9, 2015, the Department published in the Federal Register a notice of initiation of an administrative review of the antidumping duty order on certain magnesia carbon bricks from Mexico with respect to these companies.³ On January 19, 2016, the Committee timely withdrew all its requests for review.

² The Committee is an ad hoc association comprised of the following three U.S. producers of magnesia carbon bricks: Resco Products, Inc.; Magnesita Refractories Company; and Harbison Walker International, Inc. See September 30, 2015, Letter regarding Certain Magnesia Carbon Bricks From Mexico: Request For Administrative Review.

³ See Initiation of Antidumping and Countervailing Duty Administrative Reviews, 80 FR 69193, 69195 (November 9, 2015).

Rescission of Administrative Review

Pursuant to 19 CFR 351.213(d)(1), the Department will rescind an administrative review, in whole or in part, if the parties that requested a review withdraw the request within 90 days of the date of publication of the notice of initiation of the requested review. The Committee withdrew its request for review before the 90-day deadline, and no other party requested an administrative review of the antidumping duty order on certain magnesia carbon bricks from Mexico for the POR. Therefore, in response to the timely withdrawal of the request for review and pursuant to 19 CFR 351.213(d)(1), the Department is rescinding this review in its entirety.

Assessment

The Department will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions directly to CBP 41 days after the date of publication of this notice in the Federal Register.

Notification to Importers

This notice serves as the only reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of the return or destruction of APO materials, or conversion to judicial protective order, is hereby requested. Failure to comply with the regulations and the terms of an APO is a sanctionable violation.

This notice is published in accordance with section 777(i)(1) of the Act, and 19 CFR 351.213(d)(4).

Dated: February 3, 2016.
Christian Marsh,
Deputy Assistant Secretary for Antidumping and Countervailing Duty Operations.

[FR Doc. 2016-02553 Filed 2-8-16; 8:45 am]

BILLING CODE 3510-DS-P